DEPARTMENT OF COMMERCE

National Oceanic and Atmospheric Administration

[RTID 0648-XB322]

New England Fishery Management Council; Public Meeting; Cancellation

AGENCY: National Marine Fisheries Service (NMFS), National Oceanic and Atmospheric Administration (NOAA), Commerce.

ACTION: Notice of cancellation of a meeting.

SUMMARY: The New England Fishery Management Council (Council) has cancelled a public meeting of its Monkfish Committee that was scheduled for Wednesday, September 1, 2021.

FOR FURTHER INFORMATION CONTACT: Thomas A. Nies, Executive Director, New England Fishery Management Council; telephone: (978) 465-0492.

SUPPLEMENTARY INFORMATION: The original meeting notice published in the Federal Register on Monday, August 16, 2021 (86 FR 45711).

The meeting will be rescheduled at a later dated and announced in the Federal Register.

Authority: 16 U.S.C. 1801 et seq.

Dated: August 17, 2021.
Tracey L. Thompson,
Acting Deputy Director, Office of Sustainable Fisheries, National Marine Fisheries Service.

[FR Doc. 2021-17884 Filed 8-19-21; 8:45 am]

BILLING CODE 3510-22-P